DEPARTMENT OF THE INTERIOR

Fish and Wildlife Service

[FWS-R6-ES-2017-N105; FXES11130600000-178-FF06E00000]

U.S. Endangered Species; Receipt of Recovery Permit Applications

AGENCY: Fish and Wildlife Service, Interior.

ACTION: Notice of receipt of permit applications; request for comments.

SUMMARY: We, the U.S. Fish and Wildlife Service, invite the public to comment on applications for permits to conduct activities intended to enhance the propagation or survival of endangered species. With some exceptions, the Endangered Species Act (ESA) prohibits certain activities that constitute take of listed species unless a Federal permit is issued that allows such activity. The ESA also requires that we invite public comment before issuing these permits.

DATES: To ensure consideration, we must receive your written comments by January 5, 2018.

ADDRESSES:

Requesting Copies of Applications or Public Comments: Copies of applications or public comments concerning any of the applications in this notice may be obtained by any party who submits a written request for a copy of such documents to the following office within 30 days of the date of publication of this notice, subject to the requirements of the Privacy Act (5 U.S.C. 552a) and the Freedom of Information Act (5.U.S.C. 552): Ecological Services, U.S. Fish and Wildlife Service, P.O. Box 25486-DFC, Denver, CO 80225.

Submitting Comments: You may submit comments by one of the following methods. Please specify applicant name(s) and application number(s) to which your comments pertain (e.g., TE-XXXXXX).

• Email: permitsR6ES@fws.gov. Please refer to the respective permit number (e.g., Application No. TE-XXXXXX) in the subject line of your email message.

• U.S. Mail: Ecological Services, U.S. Fish and Wildlife Service, P.O. Box 25486-DFC, Denver, CO 80225.

• In-Person Drop-off, Viewing, or Pickup: Call (719) 628-2670 to make an appointment during regular business hours at 134 Union Blvd., Suite 645, Lakewood, CO 80228.

FOR FURTHER INFORMATION CONTACT: Kathy Konishi, Recovery Permits Coordinator, Ecological Services, (719) 628-2670 (phone); permitsR6ES@fws.gov (email).

SUPPLEMENTARY INFORMATION: We, the U.S. Fish and Wildlife Service (Service), invite the public to comment on applications for permits to conduct activities intended to promote recovery of endangered species. With some exceptions, the ESA prohibits certain activities with endangered species unless a Federal permit allows such activity. The ESA also requires that we invite public comment before issuing these permits.

Background

The ESA prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered or threatened species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, Tribes, Federal agencies and the public to comment on the following applications.

Application No. | Applicant | Species | Location | Activity | Type of take | Permit action
TE046427-1 | Landry's Downtown Aquarium | Bonytail chub (Gila elegans), Colorado pikeminnow (Ptychocheilus lucius), desert pupfish (Cyprinodon macularius), green sea turtle (Chelonia mydas), humpback chub (Gila cypha), razorback sucker (Xyrauchen texanus), white sturgeon (Acipenser transmontanus) | CO | Captive propagation, animal husbandry, educational display | Capture, harass | Renew.
TE131638-3 | Loveland Living Planet Aquarium | Bonytail chub (Gila elegans), Colorado pikeminnow (Ptychocheilus lucius), desert pupfish (Cyprinodon macularius), green sea turtle (Chelonia mydas), humpback chub (Gila cypha), June sucker (Chasmistes liorus), loggerhead sea turtle (Caretta caretta), razorback sucker (Xyrauchen texanus), Virgin River chub (Gila robusta seminuda), white sturgeon (Acipenser transmontanus), woundfin (Plagopterus argentissimus) | UT | Captive propagation, animal husbandry, educational display | Capture, harass | Amend.
TE26584C-1 | Two Dot Consulting | Southwestern willow flycatcher (Empidonax traillii extimus) | CO, UT | Survey and monitor, playback calls | Harass | Amend.
TE704930-2 | Regional Director, Region 6, U.S. Fish and Wildlife Service | All threatened and endangered species as listed on the Region 6 Ecological Service's Web site, https://www.fws.gov/mountain-prairie/es/endangered.php for recovery or scientific purposes or for the enhancement of propagation or for enhancing the species' survival. | CO, KS, NE, ND, SD, MT, UT, WY | This permit allows Fish and Wildlife Service employees, designated agents of the Service, and volunteers to lawfully conduct threatened and endangered species activities, in conjunction with recovery activities throughout the species' range, as outlined in Fish and Wildlife Service employees' and volunteers' position descriptions, and the Service's Letters of Authorization for Designated Agents of the Service. | Purposeful take, harass, display for education, photograph, survey, capture, monitor, electrofish, handle, weigh, measure, mark, obtain biological samples, breed in captivity, reintroduce, relocate, remove from the wild, kill, and, for plant species only, remove and reduce to possession | Amend.

Public Availability of Comments

Before including your address, phone number, email address, or other personal identifying information in your comment, you should be aware that your entire comment—including your personal identifying information—may be made publicly available at any time. If you submit a hardcopy comment that includes personal identifying information, you may request at the top of your document that we withhold this information from public review; however, we cannot guarantee that we will be able to do so.

Contents of Public Comments

Please make your comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations.

Next Steps

If the Service decides to issue permits to any of the applicants listed in this notice, we will publish a notice in the Federal Register.

Authority

Section 10(c) of the Endangered Species Act of 1973, as amended (16 U.S.C. 1531 et seq.)

Michael Thabault,
Assistant Regional Director, Mountain-Prairie Region.

[FR Doc. 2017-26200 Filed 12-5-17; 8:45 am]

BILLING CODE 4333-15-P